DEPARTMENT OF LABOR

Employment and Training Administration

[TA-W-37,190 and NAFTA-3621]

Tempset, Inc., St. Louis, Missouri; Dismissal of Application for Reconsideration

Pursuant to 29 CFR 90.18(C) an application for administrative reconsideration was filed with the Director of the Division of Trade Adjustment Assistance for workers at Tempset, Inc., St. Louis, Missouri. The application contained no new substantial information which would bear importantly on the Department's determination. Therefore, dismissal of the application was issued.

TA-W-37,190 and NAFTA-3621; Tempset, Inc., St. Louis, Missouri (June 19, 2000)

Signed at Washington, DC this 19th day of June, 2000.
Grant D. Beale,
Program Manager, Division of Trade Adjustment Assistance.

[FR Doc. 00-17320 Filed 7-7-00; 8:45 am]

BILLING CODE 4510-30-M